DEPARTMENT OF TRANSPORTATION

Federal Railroad Administration

[Docket Number FRA-2012-0091]

Petition for Waiver of Compliance

In accordance with Part 211 of Title 49 Code of Federal Regulations (CFR), this document provides the public notice that by a letter dated November 15, 2012, BNSF Railway (BNSF), has petitioned the Federal Railroad Administration (FRA) for a waiver of compliance from certain provisions of the Federal railroad safety regulations contained at 49 CFR part 232—Brake System Safety Standards for Freight and Other Non-Passenger Trains and Equipment; End-of-Train Devices. FRA assigned the petition Docket Number FRA-2012-0091.

BNSF seeks relief with respect to the application of certain provisions of 49 CFR part 232. Specifically, BNSF seeks relief from 49 CFR Sections 232.205(c)(1)—Class I brake test-initial terminal inspection and 232.207(b)(1)—Class IA brake tests—1,000-mile inspection for trains operating in distributive power mode. BNSF requests to extend the maximum allowable brake pipe air flow from the present rule of 60 cubic feet per minute (CFM) to 90 CFM for distributed power-equipped trains under specified operating conditions.

Canadian railroads have operated with the higher air flow of 90 CFM on distributed power trains for the past 2 years. Recently, BNSF conducted demonstration testing in Great Falls, MT, for air flows between 60 and 90 CFM; a summary of which has been submitted to this docket. BNSF states that these tests confirmed brake propagation rates comparable to the rates achieved by Canadian Pacific Railway and Canadian National Railway in their experience operating high CFM air flow trains. Based upon the successful outcome of its test, and the operational experience of the Canadian railroads, BNSF petitions FRA to permit operation at higher air flow levels for trains operating in distributive power mode under the operating conditions specified in its petition.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 25, 2013 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on December 17, 2012.
Robert C. Lauby,
Deputy Associate Administrator for Regulatory and Legislative Operations.

[FR Doc. 2013-00223 Filed 1-8-13; 8:45 am]

BILLING CODE 4910-06-P